DEPARTMENT OF THE TREASURY

Submission for OMB Review; Comment Request

August 26, 2004.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before October 4, 2004, to be assured of consideration.

Internal Revenue Service (IRS)

OMB Number: 1545-0020.

Form Number: IRS Form 709.

Type of Review: Extension.

Title: United States Gift (and Generation-Skipping Transfer) Tax Return.

Description: Form 709 is used by individuals to report transfers subject to the gift and generation-skipping transfer taxes and to compute these taxes. IRS uses the information to enforce these taxes and to compute the estate tax.

Respondents: Individuals or households.

Estimated Number of Respondents/Recordkeepers: 278,500.

Estimated Burden Hours Respondent/Recordkeeper:

Recordkeeping—52 min.

Learning about the law or the form—1 hr., 53 min.

Preparing the form—1 hr., 58 min.

Copying, assembling, and sending the form to the IRS—1 hr., 3 min.

Frequency of response: Annually.

Estimated Total Reporting/Recordkeeping Burden: 1,609,730 hours.

OMB Number: 1545-0051.

Form Number: IRS Form 990-C.

Type of Review: Revision.

Title: Farmers' Cooperative Association Income Tax Return.

Description: Form 990-C is used by farmers' cooperatives to report the tax imposed by Internal Revenue code section 1381. The IRS uses the information on the form to determine whether the cooperative has correctly computed and reported its income tax liability.

Respondents: Business or other for-profit, farms.

Estimated Number of Respondents/Recordkeepers: 5,600.

Estimated Burden Hours Respondent/Recordkeeper:

Recordkeeping—75 hr., 34 min.

Learning about the law or the form—27 hr., 19 min.

Preparing the form—45 hr., 34 min.

Copying, assembling, and sending the form to the IRS—4 hr., 33 min.

Frequency of response: Annually.

Estimated Total Reporting/Recordkeeping Burden: 856,640 hours.

OMB Number: 1545-0086.

Form Number: IRS Form 1040-C.

Type of Review: Revision.

Title: U.S. Departing Alien Income Tax Return.

Description: Form 1040-C is used by aliens departing the U.S. to report income received or expected to be received for the entire year. The data collected are used to insure that the departing alien has no outstanding U.S. tax liability.

Respondents: Individuals or households.

Estimated Number of Respondents/Recordkeepers: 2,000.

Estimated Burden Hours Respondent/Recordkeeper:

Recordkeeping—2 hr., 4 min.

Learning about the law or the form—45 min.

Preparing the form—2 hr., 20 min.

Copying, assembling, and sending the form to the IRS—59 min.

Frequency of response: Annually.

Estimated Total Reporting/Recordkeeping Burden: 11,632 hours.

OMB Number: 1545-0128.

Form Number: IRS Form 1120-L.

Type of Review: Revision.

Title: U.S. Life Insurance Company Income Tax Return.

Description: Life insurance companies are required to file an annual return of income and compute and pay the tax due. The data is used to insure that companies have correctly reported taxable income and paid the correct tax.

Respondents: Business or other for-profit.

Estimated Number of Respondents/Recordkeepers: 2,440.

Estimated Burden Hours Respondent/Recordkeeper:

Recordkeeping—83 hr., 41 min.

Learning about the law or the form—40 hr., 6 min.

Preparing the form—62 hr., 47 min.

Copying, assembling, and sending the form to the IRS—5 hr., 37 min.

Frequency of response: Annually.

Estimated Total Reporting/Recordkeeping Burden: 448,007 hours.

OMB Number: 1545-0245.

Form Number: IRS Form 6627.

Type of Review: Extension.

Title: Environmental Taxes.

Description: Form 6627 is attached to Form 720 to complete and collect tax on chemicals, imported chemical substances, and ozone-depleting chemicals.

Respondents: Business or other for-profit, individuals or households.

Estimated Number of Respondents/Recordkeepers: 2,894.

Estimated Burden Hours Respondent/Recordkeeper:

Recordkeeping—6 hr., 54 min.

Learning about the law or the form—6 min.

Preparing and sending the form to the IRS—12 min.

Frequency of response: Annually.

Estimated Total Reporting/Recordkeeping Burden: 6,971 hours.

OMB Number: 1545-0531.

Form Number: IRS Form 706-NA.

Type of Review: Revision.

Title: United States Estate (and Generation-Skipping Transfer) Tax Return, Estate of Nonresident Not a Citizen of the United States.

Description: Under section 6018, executors must file estate tax returns for nonresident noncitizens who had property in the U.S. Executors use Form 706-NA for this purpose. IRS uses the information to determine correct tax and credits.

Respondents: Individuals or households.

Estimated Number of Respondents/Recordkeepers: 800.

Estimated Burden Hours Respondent/Recordkeeper:

Recordkeeping—1 hr., 38 min.

Learning about the law or the form—40 min.

Preparing the form—1 hr., 42 min.

Copying, assembling, and sending the form to the IRS—34 min.

Frequency of response: Annually.

Estimated Total Reporting/Recordkeeping Burden: 3,680 hours.

OMB Number: 1545-0803.

Form Number: IRS Form 5074.

Type of Review: Extension.

Title: Allocation of Individual Income Tax on Guam or the Commonwealth of the Northern Mariana Islands (CNMI).

Description: Form 5074 is used by U.S. citizens or residents as an attachment to Form 1040 when they have $50,000 or more in adjusted gross income from U.S. sources and $5,000 or more in gross income from Guam or the Commonwealth of the Northern Mariana Islands (CNMI). The data is used by IRS to allocate income tax due to Guam or CNMI as required by 26 U.S.C. 7654.

Respondents: Individuals or households, not-for-profit institutions.

Estimated Number of Respondents/Recordkeepers: 50.

Estimated Burden Hours Respondent/Recordkeeper:

Recordkeeping—3 hr., 16 min.

Learning about the law or the form—10 min.

Preparing the form—53 min.

Copying, assembling, and sending the form to the IRS—16 min.

Frequency of response: Annually.

Estimated Total Reporting/Recordkeeping Burden: 232 hours.

OMB Number: 1545-0895.

Form Number: IRS Form 3800.

Type of Review: Revision.

Title: General Business Credit.

Description: Internal Revenue Code (IRC) section 38 permits taxpayers to reduce their income tax liability by the amount of their general business credit, which is an aggregation of their investment credit, jobs credit, alcohol fuel credit, research credit, low-income housing credit, disabled access credit, enhanced oil recovery credit, etc. Form 3800 is used to figure the correct credit.

Respondents: Business or other for-profit, individuals or households, farms.

Estimated Number of Respondents/Recordkeepers: 272,197.

Estimated Burden Hours Respondent/Recordkeeper:

Recordkeeping—15 hr., 46 min.

Learning about the law or the form—1 hr., 23 min.

Preparing and sending the form to the IRS—1 hr., 42 min.

Frequency of response: Annually.

Estimated Total Reporting/Recordkeeping Burden: 5,139,080 hours.

OMB Number: 1545-0904.

Regulation Project Number: INTL-45-86 Final (TD 8125) .

Type of Review: Extension.

Title: Foreign Management and Foreign Economic Processes Requirements of a Foreign Sales Corporation.

Description: The regulations provide rules for complying with foreign management and foreign economic process requirements to enable Foreign Sales Corporations to produce foreign training gross receipts and qualify for reduced tax rates. Rules are included for maintaining records to substantiate compliance. Affected public is limited to large corporations that export goods or services.

Respondents: Business or other for-profit.

Estimated Number of Recordkeepers: 11,001.

Estimated Burden Hours Recordkeeper: 2 hours.

Frequency of response: Other (one-time only).

Estimated Total Recordkeeping Burden: 22,001 hours.

OMB Number: 1545-1135.

Form Number: IRS Form 8817.

Type of Review: Extension.

Title: Allocation of Patronage and Nonpatronage Income and Deductions.

Description: Form 8817 is filed by taxable farmers' cooperatives to report their income and deductions by patronage and nonpartronage sources. The IRS uses the information on the form to ascertain the amounts of patronage and nonpatronage income or loss were properly computed.

Respondents: Business or other for-profit.

Estimated Number of Respondents/Recordkeepers: 1,650.

Estimated Burden Hours Respondent/Recordkeeper:

Recordkeeping—16 hrs., 44 min.

Learning about the law or the form—36 min.

Preparing and sending the form to the IRS—52 min.

Frequency of response: Annually.

Estimated Total Reporting/Recordkeeping Burden: 22,006 hours.

OMB Number: 1545-1142.

Regulation Project Number: INTL-939-86 NPRM.

Type of Review: Extension.

Title: Insurance Income of a Controlled Foreign Corporation for Taxable Years Beginning after December 31, 1986.

Description: The information is required to determine the location of moveable property; allocate income and deductions to the proper category of insurance income, determine those amounts for computing taxable income that are derived from an insurance company annual statement, and permit a CFC to elect to treat related person insurance income as income effectively connected with the conduct of a U.S. trade or business. The respondents will be business or other for-profit institutions.

Respondents: Business or other for-profit.

Estimated Number of Respondents/Recordkeepers: 500.

Estimated Burden Hours Respondent/Recordkeeper: 28 hr., 12 min.

Frequency of response: Annually.

Estimated Total Reporting/Recordkeeping Burden: 14,100 hours.

OMB Number: 1545-1355.

Regulation Project Number: REG-208985-89 (formerly INTL-848-890 NPRM.

Type of Review: Extension.

Title: Taxable Year of Certain Foreign Corporations Beginning after July 10, 1989.

Description: Proposed regulations set forth the “required year” for “specified foreign corporations” for taxable years beginning after July 10, 1989, and give guidance on which foreign corporations must change their taxable year and how to effect the change in taxable year. Specified foreign corporations must conform to the required year and must state so on Form 5471.

Respondents: Business or other for-profit.

Estimated Number of Respondents: 700.

Estimated Burden Hours Respondent: 1 hour.

Frequency of response: On occasion.

Estimated Total Reporting Burden: 700 hours.

OMB Number: 1545-1615.

Regulation Project Number: REG-118926-97 Final.

Type of Review: Extension.

Title: Notice of Certain Transfers to Foreign Partnerships and Foreign Corporations.

Description: Section 6038B requires U.S. persons to provide certain information when they transfer certain property to a foreign partnership or foreign corporation. This regulation provides reporting rules to identify United States persons who contribute property to foreign partnerships and to ensure the correct reporting of items with respect to those partnerships.

Respondents: Business or other for-profit, Individuals or households.

Estimated Number of Respondents: 1.

Estimated Burden Hours Respondent: 1 hour.

Frequency of response: On occasion.

Estimated Total Reporting Burden: 1 hour.

Clearance Officer: Paul H. Finger, (202) 622-4078, Internal Revenue Service, Room 6516, 1111 Constitution Avenue, NW., Washington, DC 20224.

OMB Reviewer: Joseph F. Lackey, Jr., (202) 395-7316, Office of Management and Budget, Room 10235, New Executive Office Building, Washington, DC 20503.

Lois K. Holland,
Treasury PRA Clearance Officer.

[FR Doc. 04-20026 Filed 9-1-04; 8:45 am]

BILLING CODE 4830-01-P